DEPARTMENT OF COMMERCE

National Oceanic and Atmospheric Administration

[I.D. 050905A]

Fisheries of the Gulf of Mexico; Southeastern Data, Assessment, and Review (SEDAR); Gulf of Mexico Vermillion Snapper, Greater Amberjack, and Gray Triggerfish

AGENCY: National Marine Fisheries Service (NMFS), National Oceanic and Atmospheric Administration (NOAA), Commerce.

ACTION: Notice of SEDAR Workshops for Gulf of Mexico vermillion snapper, greater amberjack, and gray triggerfish.

SUMMARY: The SEDAR assessments of the Gulf of Mexico stocks of vermillion snapper, greater amberjack, and gray triggerfish will consist of a series of three workshops: a Data Workshop, an Assessment Workshop, and a Review Workshop. This is the ninth SEDAR. See SUPPLEMENTARY INFORMATION.

DATES: The Data Workshop will take place June 20 - 24, 2005; the Assessment Workshop will take place August 22 - 26, 2005; and the Review Workshop will take place December 12 - 16, 2005. See SUPPLEMENTARY INFORMATION for specific information regarding dates, times and locations for the meetings.

ADDRESSES: The Data Workshop will be held at the Hotel Monteleone, 214 Royal Street, New Orleans, LA 70130. Phone: (504) 523-3341. The Assessment Workshop will be held at the Wyndham Grand Bay, 2669 South Bayshore Drive, Miami FL 33133. Phone:(305) 868-9600. The Review Workshop will be held at the Hotel Monteleone, 214 Royal Street, New Orleans, LA 70130. Phone: (504) 504-523-3341.

FOR FURTHER INFORMATION CONTACT: Steven Atran, Gulf of Mexico Fishery Management Council (GMFMC), 3018 North U. S. Highway 301, Tampa, FL 33619. Phone: (813) 228-2815 or (888) 833-1844. John Carmichael, SEDAR Coordinator, 1 Southpark Circle # 306, Charleston, SC 29414. (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop and the Stock Assessment Workshop is a stock assessment report, which describes the fisheries, evaluates the status of the stock, estimates biological benchmarks, projects future population conditions, and recommends research and monitoring needs. The Assessment Report is independently peer reviewed at the Review Workshop. The product of the Review Workshop is a Consensus Summary which reports Panel opinions regarding the strengths and weaknesses of the stock assessment and input data. Participants for SEDAR Workshops are appointed by the regional Fishery Management Councils, the SERO, and the SEFSC and include data collectors and database managers; stock assessment scientists, biologists, and researchers; constituency representatives including fishermen, environmentalists, and NGO's International experts; and staff of Councils, Commissions, and state and Federal agencies.

SEDAR 9 Workshop Schedule

June 20 - 24, 2005; SEDAR 9 Data Workshop

June 20, 2005: 1 p.m. - 8 p.m.;

June 21 - 23, 2005: 8 a.m. - 8 p.m.;

June 24, 2005: 8 a.m. - 1 p.m.

An assessment data set and documentation will be developed during the Data Workshop. The assessment data set will include catch statistics, discard estimates, length and age composition, fishery descriptions, biological sampling intensity, fishery dependent and fishery independent monitoring results, and life history characteristics.

August 22 - 26, 2005; SEDAR 9 Assessment Workshop

August 22, 2005: 1 p.m. - 8 p.m.;

August 23 - 25, 2005: 8a.m. - 8 p.m.;

August 26, 2005: 8 a.m. - 1 p.m.

Using the data set collected from the Data Workshop, participants will develop population models, evaluate the status of the stock, estimate population benchmarks and Sustainable Fisheries Act criteria, and complete the Assessment Report.

December 12 - 16, 2005; SEDAR 9 Review Workshop

December 12, 2005: 1 p.m. - 8 p.m.;

December 13 - 15, 2005: 8 a.m. - 8 p.m.;

December 16, 2005: 8 a.m. - 1 p.m.

The Review Workshop is an independent peer review of the assessment developed during the Data and Assessment Workshops. Workshop Panelists will review the assessment and document their comments and recommendations in a Consensus Summary. Panelists will summarize the assessment results in an Advisory Report.

Special Accommodations

These meetings are physically accessible to people with disabilities. Requests for sign language interpretation or other auxiliary aids should be directed to the Council office (see ADDRESSES) at least 5 business days prior to each workshop.

May 9, 2005.
Emily Menashes,
Acting Director, Office of Sustainable Fisheries, National Marine Fisheries Service.

[FR Doc. E5-2336 Filed 5-11-05; 8:45 am]

BILLING CODE 3510-22-S